DEPARTMENT OF ENERGY

Federal Energy Regulatory Commission

Combined Notice of Filings #1

Take notice that the Commission received the following electric rate filings:

Docket Numbers: ER18-2334-000.

Applicants: Southwest Power Pool, Inc.

Description: § 205(d) Rate Filing: 3193 Rush County Wind Farm GIA Cancellation to be effective 8/15/2018.

Filed Date: 8/29/18.

Accession Number: 20180829-5136.

Comments Due: 5 p.m. ET 9/19/18.

Docket Numbers: ER18-2336-000.

Applicants: Midcontinent Independent System Operator, Inc.

Description: § 205(d) Rate Filing: 2018-08-29_SA 3150 CMS Energy Resource-METC GIA (J571) to be effective 8/15/2018.

Filed Date: 8/29/18.

Accession Number: 20180829-5119.

Comments Due: 5 p.m. ET 9/19/18.

Docket Numbers: ER18-2337-000.

Applicants: Blackstone Wind Farm, LLC.

Description: Baseline eTariff Filing: Reactive Power Compensation Filing to be effective 10/28/2018.

Filed Date: 8/29/18.

Accession Number: 20180829-5121.

Comments Due: 5 p.m. ET 9/19/18.

Docket Numbers: ER18-2338-000.

Applicants: Midcontinent Independent System Operator, Inc.

Description: § 205(d) Rate Filing: 2018-08-29_SA 3151 Rosewater Wind Farm-NIPSCO GIA (J513) to be effective 8/15/2018.

Filed Date: 8/29/18.

Accession Number: 20180829-5123.

Comments Due: 5 p.m. ET 9/19/18.

Docket Numbers: ER18-2339-000.

Applicants: Midcontinent Independent System Operator, Inc.

Description: § 205(d) Rate Filing: 2018-08-29_SA 3152 Polaris Wind Energy-METC GIA (J533) to be effective 8/15/2018.

Filed Date: 8/29/18.

Accession Number: 20180829-5128.

Comments Due: 5 p.m. ET 9/19/18.

Docket Numbers: ER18-2340-000.

Applicants: Midcontinent Independent System Operator, Inc.

Description: § 205(d) Rate Filing: 2018-08-29_SA 3153 Crescent Wind-METC GIA (J538) to be effective 8/15/2018.

Filed Date: 8/29/18.

Accession Number: 20180829-5132.

Comments Due: 5 p.m. ET 9/19/18.

Docket Numbers: ER18-2341-000.

Applicants: California Independent System Operator Corporation.

Description: § 205(d) Rate Filing: 2018-08-29 Energy Imbalance Market Bid Adder Amendment to be effective 11/1/2018.

Filed Date: 8/29/18.

Accession Number: 20180829-5135.

Comments Due: 5 p.m. ET 9/19/18.

Docket Numbers: ER18-2342-000.

Applicants: GridLiance Heartland LLC.

Description: Baseline eTariff Filing: GridLiance Heartland LLC Formula Rate Template Filing to be effective 10/29/2018.

Filed Date: 8/29/18.

Accession Number: 20180829-5141.

Comments Due: 5 p.m. ET 9/19/18.

Docket Numbers: ER18-2343-000.

Applicants: Duke Energy Carolinas, LLC.

Description: § 205(d) Rate Filing: Amendment to DEC-PMPA NITSA (SA-355) to be effective 9/1/2018.

Filed Date: 8/30/18.

Accession Number: 20180830-5030.

Comments Due: 5 p.m. ET 9/20/18.

Docket Numbers: ER18-2344-000.

Applicants: Headwaters Wind Farm LLC.

Description: Baseline eTariff Filing: Reactive Power Compnsation Filing to be effective 10/29/2018.

Filed Date: 8/30/18.

Accession Number: 20180830-5031.

Comments Due: 5 p.m. ET 9/20/18.

Docket Numbers: ER18-2345-000.

Applicants: PJM Interconnection, L.L.C.

Description: § 205(d) Rate Filing: Original WMPA, SA No. 5156; Queue No. AB1-157 to be effective 7/31/2018.

Filed Date: 8/30/18.

Accession Number: 20180830-5051.

Comments Due: 5 p.m. ET 9/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 30, 2018.
Nathaniel J. Davis, Sr.,
Deputy Secretary.

[FR Doc. 2018-19264 Filed 9-4-18; 8:45 am]

BILLING CODE 6717-01-P